DEPARTMENT OF DEFENSE

Department of the Navy

[Docket ID: USN-2023-HQ-0016]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by January 17, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela Duncan, (571) 344-1358, whs.mc-alex.esd.mbx.dd-dod-information-collections@mail.mil.

SUPPLEMENTARY INFORMATION:

Title; Associated Form; and OMB Number: Navy Health of the Force Survey Program; OMB Control Number 0703-HOFG.

Type of Request: New Generic Information Collection Request.

Number of Respondents: 150,000.

Responses per Respondent: 1.

Annual Responses: 150,000.

Average Burden per Response: 20 minutes.

Annual Burden Hours: 50,000.

Needs and Uses: The Navy Health of the Force Survey program is a strategic level engagement survey initiative designed to assess climate and culture across the entire Department of the Navy (DoN) enterprise. When deployed, the Health of the Force (HoF) Survey is tailored to the unique population (Active Duty Navy, Reserve Navy, Active Duty Marine Corps, and Navy civilians) being surveyed, but also includes a core set of questions and metrics that support comparisons across the Navy and provide a means for evaluating changes in culture and climate over time.

The DoN has already received OMB approval to conduct the mainline Navy HoF Survey under OMB Control Number 0703-0079. The Department has also submitted an information collection request for a Reserves-specific HoF survey. With this Generic Information Collection Request, the Department seeks to bring all current and future HoF surveys under one OMB Control Number. The streamlined Generic approval process will grant the Navy Survey Office additional flexibility to (1) quickly implement changes that may be made to the HoF surveys from year to year and (2) add new HoF surveys that ask similar questions and utilize similar methods but target unique personnel populations.

Every HoF survey will include validated metrics for inclusion, connectedness, trust, organizational commitment, and cohesion. Other metrics that will be collected annually or biennially include job/career satisfaction, burnout, workplace incivility, and work/life balance. The survey results provide answers to important questions for Navy leadership about a range of topics including:

• Retention plans and influences to stay or leave

• Readiness and ability to perform core missions

• Importance/utilization of mentoring and professional development opportunities

• Access to key resources like childcare, healthcare, financial and personal support services

• Views on unique navy programs (i.e., Get Real, Get Better; Quality of Service, etc.)

• Personal well-being (mental, physical, and emotional)

• Interpersonal relationships in the workplace

• Levels of stress and key stressors

Finally, the survey provides Navy personnel with an opportunity to tell Navy leaders, in their own words, what they are concerned about and what they need to make the Navy a stronger, more effective organization.

Affected Public: Individuals or households (DoN civilians, active and reserve service members).

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Ms. Angela Duncan.

Requests for copies of the information collection proposal should be sent to Ms. Duncan at whs.mc-alex.esd.mbx.dd-dod-information-collections@mail.mil.

Dated: December 13, 2023.
Aaron T. Siegel,
Alternate OSD Federal Register Liaison Officer, Department of Defense.

[FR Doc. 2023-27731 Filed 12-15-23; 8:45 am]

BILLING CODE 6001-FR-P